DEPARTMENT OF HEALTH AND HUMAN SERVICES

Administration for Children and Families

Submission for OMB Review; Comment Request

Title: Provision of Services in Interstate Child Support.

OMB No.: 0970-0085.

Description: Pub. L. 104-193, The Personal Responsibility and Work Opportunity Reconciliation Act (PRWORA) of 1996 amended 42 U.S.C. 666 to require State Child Support Enforcement (CSE) programs to enact the Uniform Interstate Family Support Act (UIFSA) into State law by January 1, 1998. To ensure standardization among States, section 311(b) of UIFSA requires the States to use standard interstate forms, as mandated by Federal law. 45 CFR 303.7 requires CSE programs to transmit child support case information on standard interstate forms when referring cases to other States for processing. The forms, which promote uniformity and standardization, are expiring and we are taking the opportunity to make minor revisions to them, to among other things, reflect that UIFSA is now the law for all 54 CSE programs.

Respondents: States.

Annual Burden Estimates
Instrument | Number of respondents | Number of responses per respondent | Average burden hours per response | Total burden hours
Transmittal #1 | 54 | 10,861.20 | .42 | 246,332.02
Transmittal #2 | 54 | 2,715.30 | .08 | 11,730.01
Transmittal #3 | 54 | 543.05 | .17 | 4,985
Uniform Petition | 54 | 5,430.60 | .12 | 35,190.29
General Testimony | 54 | 6,516.72 | .33 | 116,127.95
Affidavit/Paternity | 54 | 2,715.30 | .25 | 36,656.55
Locate Data Sheet | 54 | 375 | .08 | 1,620
Notice/Control Order | 54 | 8,145.75 | .17 | 74,777.98
Registration Statement | 54 | 7,168.39 | .17 | 65,805.82

Estimated Total Annual Burden Hours: 593,226.

Additional Information: Copies of the proposed collection may be obtained by writing to The Administration for Children and Families, Office of Information Services, 370 L'Enfant Promenade, SW., Washington, DC 20447, Attn: ACF Reports Clearance officer.

OMB Comment: OMB is required to make a decision concerning the collection of information between 30 and 60 days after publication of this document in the Federal Register. Therefore, a comment is best assured of having its full effect if OMB receives it within 30 days of publication.

Written comments and recommendations for the proposed information collection should be sent directly to the following: Office of Management and Budget, Paperwork Reduction Project, 725 17th Street, NW., Washington, DC 20503, Attn: Desk Officer for ACF.

Dated: September 21, 2000.
Bob Sargis,
Reports Clearance Officer.

[FR Doc. 00-24977 Filed 9-28-00; 8:45 am]

BILLING CODE 4184-01-M